DEPARTMENT OF HOMELAND SECURITY

Federal Emergency Management Agency

[Docket ID FEMA-2009-0001]

Agency Information Collection Activities: Proposed Collection; Comment Request

AGENCY: Federal Emergency Management Agency, DHS.

ACTION: Notice; 60-day notice and request for comments; revision of a currently approved information collection; OMB No. 1660-0081; FEMA Form 146-0 (Replaces FEMA Form 81-108), National Flood Insurance Program—Mapping Needs Update Support System (MNUSS) Data Worksheet.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the use of the Mapping Needs Update Support System Data Worksheet to collect data on flood hazard mapping needs enabling FEMA to be more responsive to ongoing changes affecting flood hazard areas that occur in communities participating in the NFIP. These changes include, but are not limited to, new corporate limit boundaries, changes in the road network, and changes in flood hazard areas, which affect communities' flood risks.

DATES: Comments must be submitted on or before November 9, 2009.

ADDRESSES: To avoid duplicate submissions to the docket, please use only one of the following means to submit comments:

(1) Online. Submit comments at www.regulations.gov under docket ID FEMA-2009-0001. Follow the instructions for submitting comments.

(2) Mail. Submit written comments to Office of Chief Counsel, Regulation and Policy Team, DHS/FEMA, 500 C Street, SW., Room 835, WASH, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of www.regulations.gov.

FOR FURTHER INFORMATION CONTACT: Contact Beth Norton, Mitigation Division, Department of Homeland Security/FEMA, at (202) 646-2716 for additional information. You may contact the Records Management Branch for copies of the proposed collection of information at facsimile number (202) 646-3347 or e-mail address: FEMA-Information-Collections@dhs.gov.

SUPPLEMENTARY INFORMATION: Public Law 103-325, The Riegle Community Development and Regulatory Improvement Act of 1994, Title V—National Flood Insurance Reform, section 575, Updating of Flood Maps (also known as section 575 of the National Flood Insurance Reform Act (NFIRA) of 1994), mandates that at least once every five years, the Federal Emergency Management Agency (FEMA) will assess the need to revised and update all floodplain areas and flood risk zones identified, delineated, or established under section 1360 of the National Flood Insurance Act of 1968.

Collection of Information

Title: National Flood Insurance Program (NFIP) Mapping Needs Update Support System (MNUSS) Data Worksheet.

Type of Information Collection: Revision of a currently approved information collection.

OMB Number: 1660-0081.

Form Titles and Numbers: FEMA Form 146-0 (Replaces FEMA Form 81-108), National Flood Insurance Program—Mapping Needs Update Support System (MNUSS) Data Worksheet.

Abstract: FEMA established the Mapping Needs Assessment process and the MNUSS database in order to effectively identify and document data regarding community flood hazard mapping needs. MNUSS is designed to store mapping needs at the community level. In order to facilitate the identification and collection of communities' current flood hazard mapping needs for input into MNUSS, FEMA developed the MNUSS Data Worksheet. This provides a method to notify FEMA of any revisions or updates required to flood maps. The information is also used to assist in the prioritization of the flood hazard mapping needs of all mapped communities participating in the NFIP.

Affected Public: State, Local and Tribal Governments.

Estimated Total Annual Burden Hours: 1,150 Hours.

Table A.12—Estimated Annualized Burden Hours and Costs
Type of respondent | Form name/form number | Number of respondents | Number of responses per respondent | Total number of responses | Avg. burden per response (in hours) | Total annual burden (in hours) | Avg. hourly wage rate* | Total annual respondent cost
State, Local or Tribal Government | FEMA Form 146-0/MNUSS Data Worksheet | 460 | 1 | 460 | 2.5 | 1,150 | $47.75 | $54,913
Total |  | 460 |  |  |  | 1,150 |  | 54,913
*Note: The “Avg. Hourly Wage Rate” for each respondent includes a 1.4 multiplier to reflect a fully-loaded wage rate.

Estimated Cost: There is no annual operation or maintenance cost associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-21751 Filed 9-9-09; 8:45 am]

BILLING CODE 9111-52-P